DEPARTMENT OF TRANSPORTATION

Surface Transportation Board

[STB Finance Docket No. 35058]

CSX Transportation, Inc.—Trackage Rights Exemption—The Indiana Rail Road Company

Pursuant to a written trackage rights agreement, The Indiana Rail Road Company (INRD) has agreed to grant limited overhead trackage rights to CSX Transportation, Inc. (CSXT), over a line of railroad known as INRD's Chicago Subdivision, between the connection of CSXT and INRD trackage at ConMil at approximate INRD milepost 175.5 and the connection of CSXT and INRD trackage at approximate INRD milepost 181.7, a distance of 6.2 miles, all in Terre Haute, Vigo County, IN.

This transaction is scheduled to be consummated on July 29, 2007, the effective date of the exemption (30 days after the exemption was filed).

This transaction is related to a concurrently filed notice of exemption in STB Finance Docket No. 35059, The Indiana Rail Road Company—Trackage Rights Exemption—CSX Transportation, Inc., wherein INRD seeks to acquire and operate over 22.5 miles of rail line over CSXT's CE&D Subdivision, between the connection of CSXT and INRD trackage at Belt Junction, Terre Haute, at approximate milepost OZA 181.70, and the connection of CSXT and INRD trackage at Sullivan, IN, at approximate milepost OZA 204.20.

The purpose of the trackage rights is to enable CSXT crews to operate trains in overhead movements between points on CSXT's CE&D Subdivision, south of Terre Haute, and points on CSXT's St. Louis Line Subdivision, west of Terre Haute, in order to improve traffic flow (including reduction of railroad and vehicular congestion) and further improve the safety of CSXT operations in and around Terre Haute.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by July 20, 2007 (at least 7 days before the exemption becomes effective).

An original and 10 copies of all pleadings, referring to STB Finance Docket No. 35058, must be filed with the Surface Transportation Board, 395 E Street, SW., Washington, DC 20423-0001. In addition, a copy of each pleading must be served on Steven C. Armbrust, Esq., CSX Transportation, Inc., 500 Water Street, J-150, Jacksonville, FL 32202.

Board decisions and notices are available on our Web site at: http://www.stb.dot.gov.

Decided: July 5, 2007.
By the Board, David M. Konschnik, Director, Office of Proceedings.
Vernon A. Williams,
Secretary.

[FR Doc. E7-13330 Filed 7-12-07; 8:45 am]

BILLING CODE 4915-01-P